RAILROAD RETIREMENT BOARD

Notice of Public Meeting; Sunshine Act

Notice is hereby given that the Railroad Retirement Board will hold a meeting on April 16, 2003, 9 a.m., at the Board's meeting room on the 8th floor of its headquarters building, 844 North Rush Street, Chicago, Illinois 60611. The agenda for this meeting follows:

(1) Employer Status Determination—Rail Temps, Inc.

(2) Employer Status Determination—Southern Gulf Railway Company.

(3) Occupational Disability Task Force Report.

(4) Management Information Report—Strategic Initiatives Related to the President's Management Agenda.

The entire meeting will be open to the public. The person to contact for more information is Beatrice Ezerski, Secretary to the Board, Phone No. 312-751-4920.

Dated: April 7, 2003.
Beatrice Ezerski,
Secretary to the Board.

[FR Doc. 03-8890 Filed 4-8-03; 9:45 am]

BILLING CODE 7905-01-M